DEPARTMENT OF LABOR

Office of the Secretary

Submission for OMB Review: Comment Request

December 15, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation, including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Mine Safety and Health Administration (MSHA), Office of Management and Budget, 725 17th Street, NW., Room 10235, Washington, DC 20503, Telephone: 202-395-4816/Fax: 202-395-5806 (these are not toll-free numbers), E-mail: OIRA_submission@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title of Collection: Gamma Radiation Exposure Records.

OMB Control Number: 1219-0039.

Form Number: N/A.

Estimated Number of Respondents: 4.

Estimated Total Annual Burden Hours: 8.

Estimated Total Annual Cost Burden (does not include hourly wage costs): $0.

Affected Public: Business or other for profits (metal and non-metal underground mines).

Description: The Department's regulations at 30 CFR 57.5047 require records to be kept of cumulative individual gamma radiation exposure to ensure that annual exposure does not exceed 5 Rems per year. MSHA uses this information to evaluate the effectiveness of a mine operator's protection program in demonstrating compliance with the radiation standards. The information collected on cumulative occupational radiation exposures serves two purposes: (1) It aids MSHA in their efforts to protect the health and safety of the workers, and (2) it aids MSHA in developing prevention and control methods for subsequent radiation exposure. For additional information, see related notice published in the Federal Register on September 23, 2009, at Vol. 74, page 40610.

Agency: Mine Safety and Health Administration.

Type of Review: Extension without change of currently approved collection.

Title of Collection: Mine Rescue Teams; Arrangements for Emergency Medical Assistance; and Arrangements for Transportation for Injured Persons.

OMB Control Number: 1219-0078.

Form Number: MSHA 5000-3.

Estimated Number of Respondents: 224.

Estimated Total Annual Burden Hours: 8,825.

Estimated Total Annual Cost Burden (does not include hourly wage costs): $243,049.

Affected Public: Business or other for profits (metal and nonmetal mines).

Description: The Department's regulations at 30 CFR part 49 set standards relating to the availability of mine rescue teams; alternate mine rescue capability for small and remote mines and mines with special mining conditions; inspection and maintenance records of mine rescue equipment and apparatus; physical requirements for mine rescue team members and alternates; and experience and training requirements for team members and alternates. The information collection requirements contained in 30 CFR part 49 are used by mine operators, miners, and MSHA to formulate an appropriate rescue capability within the guidelines set forth in these standards. For additional information, see related notice published in the Federal Register on October 15, 2009, at Vol. 74, page 52979.

Agency: Mine Safety and Health Administration.

Type of Review: Extension without change of currently approved collection.

Title of Collection: Daily Inspection of Surface Coal Mines; Certified Person; Reports of Inspection.

OMB Control Number: 1219-0083.

Form Number: N/A.

Estimated Number of Respondents: 1,442.

Estimated Total Annual Burden Hours: 674,856.

Estimated Total Annual Cost Burden (does not include hourly wage costs): $0.

Affected Public: Business or other for profits (surface coal mines).

Description: 30 CFR 77.1713 requires operators of surface coal mines and surface facilities to keep records of the results of required examinations for hazardous conditions. These records consist of the nature and location of any hazardous condition found and the actions taken to abate the hazardous condition. The records are used by the MSHA inspectors to determine compliance with the standard, and that any hazards found have either been corrected or barricaded. Mine operators use these records to identify areas of the mine or equipment that present hazards to miners and, therefore, must be corrected to prevent miner injuries or death. Repeated hazardous conditions in any area or involving a particular piece of equipment would indicate to the operator the need for modification of operating procedures or replacement or repair of equipment. For additional information, see related notice published in the Federal Register on October 9, 2009, at Vol. 74, page 52260.

Agency: Mine Safety and Health Administration.

Type of Review: Extension without change of currently approved collection.

Title of Collection: Explosive Materials and Blasting Units.

OMB Control Number: 1219-0095.

Form Number: N/A.

Estimated Number of Respondents: 1.

Estimated Total Annual Burden Hours: 1.

Estimated Total Annual Cost Burden (does not include hourly wage costs): $0.

Affected Public: Business or other for profits (metal and nonmetal underground mines deemed to be gassy).

Description: The Department's regulations at 30 CFR 57.22606(a) provide procedures by which a mine operator shall notify MSHA of all explosive materials and blasting units prior to their use in underground gassy metal and nonmetal mines. MSHA uses the information provided by the mine operator to determine whether nonapproved blasting materials and explosives and procedures are safe for use in a gassy underground metal or nonmetal mine. Without such determinations, miners may be exposed to significant safety risks. For additional information, see related notice published in the Federal Register on September 28, 2009, at Vol. 74, page 49401.

Darrin A. King,
Departmental Clearance Officer.

[FR Doc. E9-30191 Filed 12-18-09; 8:45 am]

BILLING CODE 4510-43-P